DEPARTMENT OF TRANSPORTATION

Federal Railroad Administration

[Docket No. FRA-2021-0100]

Notice of Availability of a Final General Conformity Determination for the California High-Speed Rail System, San Jose to Merced Section

AGENCY: Federal Railroad Administration (FRA), U.S. Department of Transportation (DOT).

ACTION: Notice.

SUMMARY: FRA is providing this notice to advise the public that it is issuing a Final General Conformity Determination (FCD) for the San Jose to Merced Section of the California High-Speed Rail (HSR) System.

FOR FURTHER INFORMATION CONTACT: Andréa Martin, Senior Environmental Protection Specialist, Office of Railroad Policy and Development (RPD), telephone: (202) 493-6201, email: Andrea.Martin@dot.gov; or Marlys Osterhues, Chief Environment and Project Engineering, RPD, telephone: (202) 493-0413, email: Marlys.Osterhues@dot.gov.

SUPPLEMENTARY INFORMATION: Pursuant to 23 U.S.C. 327 (Section 327), the California High-Speed Rail Authority (CHSRA or Authority) has assumed FRA's environmental review responsibilities under the National Environmental Policy Act (NEPA; 42 U.S.C. 4321 et seq.). However, under Section 327, FRA remains responsible for compliance with the Clean Air Act General Conformity requirements. In compliance with NEPA and the California Environmental Quality Act (CEQA), the Authority published a Final Environmental Impact Record/Final Environmental Impact Statement (EIR/EIS) for the San Jose to Merced Section of the California High-Speed Rail (HSR) System on February 25, 2022.

FRA prepared a Draft General Conformity Determination, pursuant to 40 CFR part 93, subpart B, which establishes the process for complying with the General Conformity requirements of the Clean Air Act. FRA published a notice in the Federal Register on November 26, 2021 advising the public of the availability of the Draft Conformity Determination for a 30-day review and comment period. The Draft Conformity Determination was published at http://www.regulations.gov, Docket No. FRA-2021-0100. The comment period of the Draft Conformity Determination closed on December 30, 2021. FRA received two comments expressing support for the project and Draft General Conformity Determination.

FRA prepared the Final General Conformity Determination pursuant to 40 CFR part 93 Subpart B, and based on the Authority's coordination with the U.S. Environmental Protection Agency (EPA), Bay Area Air Quality Management District (BAAQMD), San Joaquin Valley Air Pollution Control District (SJVAPCD), and the California Air Resources Board (CARB). The analysis found that construction period emissions would exceed the General Conformity de minimis threshold for Nitrogen Oxides (NOX). However, operation of the Project would result in an overall reduction of regional emissions of all applicable air pollutants and would not cause a localized exceedance of an air quality standard. Consistent with the General Conformity Rule, the Authority will ensure all remaining emissions that exceed the de minimis thresholds, after implementation of the impact avoidance and minimization features and onsite mitigation measures, will be completely mitigated to zero through agreements with the applicable air districts. Based on this commitment, FRA determined the Project will conform to the requirements in the approved State Implementation Plan.

The Final General Conformity Determination is available at http://www.regulations.gov, Docket No. FRA-2021-0100, and FRA's website at https://railroads.dot.gov/environment/environmental-reviews/clean-air-act-california-general-conformity-determinations.

Issued in Washington, DC.
Jamie P. Rennert,
Director, Office of Infrastructure Investment.

[FR Doc. 2022-06724 Filed 3-29-22; 8:45 am]

BILLING CODE 4910-06-P